DEPARTMENT OF THE INTERIOR

Office of Natural Resources Revenue

[Docket No. ONRR-2011-0007; DS63610300 DR2PS0000.CH7000 134D0102R2]

30 CFR Part 1206

Indian Oil Valuation Negotiated Rulemaking Committee; Meeting

AGENCY: Office of Natural Resources Revenue, Interior.

ACTION: Meeting.

SUMMARY: The Office of Natural Resources Revenue (ONRR) announces additional meetings for the Indian Oil Valuation Negotiated Rulemaking Committee (Committee). The Committee membership includes representatives from Indian tribes, individual Indian mineral owner organizations, minerals industry representatives, and other Federal bureaus.

DATES: Tuesday and Wednesday, June 4 and 5, 2013; Tuesday and Wednesday, August 6 and 7, 2013; and Monday and Tuesday, September 16 and 17, 2013. All meetings will run from 8:30 a.m. to 5 p.m. Mountain Time for all dates. The public will have the opportunity to comment between 2 p.m. and 3 p.m. Mountain Time on June 5, August 7, and September 17, 2013.

ADDRESSES: ONRR will hold the tenth, eleventh, and twelfth meetings at the Denver Federal Center, 6th Ave and Kipling, Bldg. 85 Auditorium, Lakewood, CO 80225.

FOR FURTHER INFORMATION CONTACT: Mr. Karl Wunderlich, ONRR, at (303) 231-3663; or (303) 231-3744 via fax; or via email karl.wunderlich@onrr.gov.

SUPPLEMENTARY INFORMATION: ONRR formed the Committee on December 8, 2011, to develop specific recommendations regarding proposed revisions to the existing regulations for oil production from Indian leases, especially the major portion requirement. The Committee includes representatives of parties that the final rule will affect. It will act solely in an advisory capacity to ONRR and will neither exercise program management responsibility nor make decisions directly affecting the matters on which it provides advice.

Meetings are open to the public without advanced registration on a space-available basis. Minutes of this meeting will be available for public inspection and copying at our offices in Building 85 on the Denver Federal Center in Lakewood, Colorado, or are available at www.onrr.gov/Laws_R_D/IONR. ONRR conducts these meetings under the authority of the Federal Advisory Committee Act (Pub. L. 92-463, 5 U.S.C., Appendix 2, Section 1 et seq.).

Dated: April 15, 2013.
Gregory J. Gould,
Director, Office of Natural Resources Revenue.

[FR Doc. 2013-09713 Filed 4-26-13; 8:45 am]

BILLING CODE 4310-T2-P